DEPARTMENT OF TRANSPORTATION

Surface Transportation Board

[Docket No. EP 290 (Sub-No. 5) (2011-1)]

Quarterly Rail Cost Adjustment Factor

AGENCY: Surface Transportation Board, DOT.

ACTION: Approval of rail cost adjustment factor.

SUMMARY: The Board has approved the first quarter 2011 Rail Cost Adjustment Factor (RCAF) and cost index filed by the Association of American Railroads. The first quarter 2011 RCAF (Unadjusted) is 1.093. The first quarter 2011 RCAF (Adjusted) is 0.488. The first quarter 2011 RCAF-5 is 0.462.

DATES: Effective Date: January 1, 2011.

FOR FURTHER INFORMATION CONTACT: Pedro Ramirez, (202) 245-0333. Federal Information Relay Service (FIRS) for the hearing impaired: (800) 877-8339.

SUPPLEMENTARY INFORMATION: Additional information is contained in the Board's decision, which is available on our Web site, http://www.stb.dot.gov. Copies of the decision may be purchased by contacting the Office of Public Assistance, Governmental Affairs, and Compliance at (202) 245-0235. Assistance for the hearing impaired is available through FIRS at (800) 877-8339.

This decision will not significantly affect the quality of the human environment or the conservation of energy resources.

Decided: December 20, 2010.
By the Board, Chairman Elliott, Vice Chairman Mulvey, and Commissioner Nottingham.
Andrea Pope-Matheson,
Clearance Clerk.

[FR Doc. 2010-32366 Filed 12-22-10; 8:45 am]

BILLING CODE 4915-01-P